DEPARTMENT OF AGRICULTURE

Food and Nutrition Service

Agency Information Collection Activities: Review of Major Changes in the Supplemental Nutrition Assistance Program

AGENCY: Food and Nutrition Service (FNS), USDA.

ACTION: Notice.

SUMMARY: In accordance with the Paperwork Reduction Act of 1995, this notice invites the general public and other public agencies to comment on this proposed information collection. This is a revision of a currently approved collection. This information collection consists of State agency notification and data collection activities associated with a major change in Supplemental Nutrition Assistance Program (SNAP) operations at the State level.

DATES: Written comments must be received on or before October 24, 2022.

ADDRESSES: Comments may be sent to: Jessica Luna, Food and Nutrition Service, U.S. Department of Agriculture, 1320 Braddock Place, 5th Floor, Alexandria, VA 22314. Comments may also be submitted via email to SM.FNS.SNAPPDBRules@usda.gov. Comments will also be accepted through the Federal eRulemaking Portal. Go to http://www.regulations.gov, and follow the online instructions for submitting comments electronically. All responses to this notice will be summarized and included in the request for Office of Management and Budget approval. All comments will be a matter of public record.

FOR FURTHER INFORMATION CONTACT: Requests for additional information or copies of this information collection should be directed to Jess Luna at 703-305-4391.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Review of Major Changes in the Supplemental Nutrition Assistance Program (SNAP).

Form Number: N/A.

OMB Control Number: 0584-0579.

Expiration Date: 4/30/2023.

Type of Request: Revision of currently approved collection.

Abstract: Section 11 of the Food and Nutrition Act of 2008 (the Act) (7 U.S.C. 2020), as amended, requires the Department to develop standards for identifying major changes in the operations of State agencies that administer SNAP. Regulations at 7 CFR 272.15 require State agencies to notify the Department when planning to implement a major change in operations and to collect any information required by the Department to identify and correct any adverse effects on program integrity or access, including access by vulnerable households. 7 CFR 272.15(a)(2) outlines the categories of major changes to include: the closure of a local office, substantial increased reliance on automated systems, changes in operations that potentially increase difficulty for household reporting, the reduction or change of functions or responsibilities assigned to merit system personnel, a decrease in the number of merit system personnel involved in the SNAP certification process, or other major changes identified by FNS. States make such changes in operations based upon a variety of interrelated factors.

As decisions to make major changes to program operations rest with each individual State agency, the frequency and timing of the changes can only be estimated. Prior to any major change to State operations, regulations at 7 CFR 272.15(a)(3) require State agencies to provide descriptive information to FNS via email regarding the major change together with an analysis of its projected impacts on program operations. The regulations also set out requirements for the State to collect and report monthly State-level data on application processing metrics, beginning with the quarter prior to implementation of the major change. This data must be reported separately for elderly and/or disabled households. This data is submitted on a quarterly basis to FNS via email. Reporting continues for at least one year after the change is completely implemented. Regulations at 272.15(b)(4) give FNS the authority to request additional data beyond the mandatory data reporting elements outlined at 272.15(a)(3). For example, depending upon the nature of the major change, States may be required to report more specific or timely information concerning the impact of the major change on payment accuracy, which could involve additional caseload data focused on households with specific characteristics. FNS will work with States to determine what additional information is practicable and require only the data that is necessary to evaluate the impact of the major change. FNS National Office and Regional Offices use data from States that are currently subject to Major Change Reporting to provide additional technical assistance to those States when needed. This information enables FNS to monitor the impact of States' changes and identify compliance and/or performance issues early.

Reporting Burden Estimates FNS estimates out of 53 States, 13 States submit major changes annually. We estimate a total of 65 annual responses and 6,704 total annual burden hours in the breakout below:

(A) 7 CFR 272.15(a)(3) Initial Analysis of Major Change: Based upon FNS' experience over the last six years, out of the 53 State agencies this data collection impacts, FNS estimates that on average 13 States will submit major changes annually. FNS estimates that the overall annual total of the collection of information for the State agencies is 65 total annual responses and 6,704 burden hours. With an estimated 13 States reporting 1 major change per year, the initial reporting and analysis aspect of the rulemaking would be 13 annual responses × 40 hours per initial response per State = an estimated 520 burden hours per year.

(B) 7 CFR 272.15(b)(1)-(3) Reports Required without Additional Data Collection: After notifying FNS of a major change, States must report to FNS on a quarterly basis the mandatory reporting requirements outlined in 7 CFR 272.15(b)(1)-(3) and may be subject to additional reporting requirements depending on the major change. Therefore, FNS projects that for 8 of the 13 major changes expected each year there would be no additional reporting burden beyond the mandatory reporting. All 13 of the major changes (8 States report without additional data collection and 5 State reports required with additional data collection) estimated each year are expected to require some automated system reprogramming to generate the required mandatory data reporting. Therefore, FNS estimates 8 States will submit this report on a quarterly basis for a total of 4 responses/reports annually for a total of 32 annual responses. We estimate it will take approximately 42 hours per report, per State for a total of 1,344 annual burden hours. [In consultation with States, we determined it will take 96 hours per State agency to program its system to provide the data for the report which would be 1,248 hours per year (13 × 96). Preparing the 52 quarterly reports are estimated to require 18 hours per State agency. The total for the 13 States would be 1,248 + 936 hours = 2,184 total hours for reporting (divided by the 13 States = 168 hours per State per year).]

(C) 7 CFR 272.15(b)(4) Reports Required with Additional Data Collection: Furthermore, FNS estimates it will require 5 States to report additional data on a quarterly basis for a year (a total of 4 responses/reports annually for a total of 20 annual responses). We estimate it will take each State agency 242 hours per response for a total of 4,840 burden hours. [Such data will generally be collected through a sample of case reviews. While the required sample sizes may vary based on the type of major change and the proportion of the State's SNAP caseload it may affect, 200 cases per quarter would likely be an upper limit on what FNS would ask of a State. At an estimated one hour to review and report on a case, this would require 800 hours per year for one State each year.]

When the 520 hours for major change notifications, the 1,344 hours for reports required without additional data and 4,480 hours for reports required with additional data are added the total for the 13 States is 6,704 total annual burden hours. There are 13 total annual responses for major change notifications, 32 total annual responses for reports required without additional data and 20 total annual responses for reports required with additional data for a total of 65 total annual responses.

(D) Additional Information: The current request is 3,504 reporting burden hours and 65 total annual responses. The revision to this information collection results in no change in the 13 total number of respondents and we are requesting 6,704 reporting burden hours which is an increase of 3,200 reporting burden hours from the previously approved request. The 65 total annual responses remain unchanged. Based on recent trends, FNS is increasing its burden estimates to account for anticipated increases in States implementing major changes in non-merit personnel and increased reliance on automated systems, such as robotic processing automation (RPA) or bots. Additional data collection on advanced technologies is necessary to identify and correct any adverse effect on program integrity, or access including access by vulnerable households.

This information collection does not contain burden associated with recordkeeping and/or third party or public disclosures.

Affected Public: State, Local and Tribal Government.

Estimated Number of Respondents: 13.

Estimated Number of Responses per Respondent: 5.

Estimated Total Annual Responses: 65.

Estimated Time per Response: 103.14.

Estimated Total Annual Burden on Respondents: 6,704 hours.

Section | Requirement | States responding per year | Responses per respondent | Number of responses | Hours per response | Total burden hours
272.15(a)(3) | Initial analysis of Major Change | 13 | 1 | 13 | 40 | 520
272.15(b)(1)-(3) | Reports required without additional data collection | 8 | 4 | 32 | 42 | 1,344
272.15(b)(4) | Reports required with additional data collection | 5 | 4 | 20 | 242 | 4,840
Totals |  | 13 | 5 | 65 | 103.14 | 6,704

Cynthia Long,
Administrator, Food and Nutrition Service.

[FR Doc. 2022-18205 Filed 8-23-22; 8:45 am]

BILLING CODE 3410-30-P